ENVIRONMENTAL PROTECTION AGENCY

40 CFR Part 271

[FRL-8967-7]

Michigan: Final Authorization of State Hazardous Waste Management Program Revision

AGENCY: Environmental Protection Agency (EPA).

ACTION: Proposed rule.

SUMMARY: Michigan has applied to EPA for final authorization of the changes to its hazardous waste program under the Resource Conservation and Recovery Act (RCRA). EPA has reviewed Michigan's application and has preliminarily determined that these changes satisfy all requirements needed to qualify for final authorization, and is proposing to authorize Michigan's changes.

DATES: Comments on this proposed rule must be received on or before November 9, 2009.

ADDRESSES: Submit your comments, identified by Docket ID No. EPA-R05-RCRA-2009-0762 by one of the following methods:

http://www.regulations.gov: Follow the on-line instructions for submitting comments.

E-mail: greenberg.judith@epa.gov.

Mail: Ms. Judith Greenberg, Michigan Regulatory Specialist, RCRA Programs Section (LR-8J), Land and Chemicals Division, U.S. Environmental Protection Agency, 77 W. Jackson Blvd., Chicago, IL 60604.

Instructions: Direct your comments to Docket ID Number EPA-R05-RCRA-2009-0762. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket, visit the EPA Docket Center homepage at http://www.epagov/epahome/dockets.htm.

Docket: All documents in the docket are listed in the http://www.regulations.gov index. Although listed in the index, some of the information is not publicly available, e.g., CBI or other information whose disclosure is restricted by statute. Certain other material, such as copyrighted material, will be publicly available only in hard copy. Publicly available docket materials are available either electronically in http://www.regulations.gov or in hard copy. You may view and copy Michigan's application Mondays through Fridays, excluding Federal holidays, from 9 a.m. to 4 p.m. at the following addresses: U.S. EPA Region 5, 77 W. Jackson Blvd., Chicago, Illinois, contact: Judith Greenberg, (312) 886-4179; or Michigan Department of Environmental Quality, Constitution Hall, 525 W. Allegan St., Lansing, Michigan (mailing address P.O. Box 30241, Lansing, Michigan 48909), contact Ronda Blayer, (517) 373-9548.

FOR FURTHER INFORMATION CONTACT: Ms. Judith Greenberg, Michigan Regulatory Specialist, RCRA Programs Section, Land and Chemicals Division (LR-8J), U.S. Environmental Protection Agency, 77 West Jackson Blvd., Chicago, Illinois 60604, (312) 886-4179, e-mail greenberg.judith@epa.gov.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We have preliminarily determined that Michigan's application to revise its authorized program meets all of the statutory and regulatory requirements established by RCRA. Therefore, we propose to grant Michigan final authorization to operate its hazardous waste program with the changes described in the authorization revision application. Michigan will have responsibility for permitting treatment, storage, and disposal facilities (TSDFs) within its borders (except in Indian Country) and for carrying out the aspects of the RCRA program described in its revised program revision application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Michigan, including issuing permits, until the State is granted authorization to do so.

C. What Will Be the Effect If Michigan Is Authorized for These Changes?

If Michigan is authorized for these changes, a facility in Michigan subject to RCRA will have to comply with the authorized State requirements instead of the equivalent Federal requirements in order to comply with RCRA. Additionally, such persons will have to comply with any applicable Federal requirements, such as HSWA regulations issued by EPA for which the State has not received authorization and RCRA requirements that are not supplanted by authorized State-issued requirements. Michigan has enforcement responsibilities under its State hazardous waste program for violations of such program, but EPA retains its authority under RCRA sections 3007, 3008, 3013, and 7003, which include, among others, authority to:

1. Do inspections, and require monitoring, tests, analyses, or reports;

2. Enforce RCRA requirements and suspend or revoke permits; and

3. Take enforcement actions regardless of whether the State has taken its own actions.

This proposed action would not impose additional requirements on the regulated community because the regulations for which Michigan would be authorized are already effective, and would not be changed by the act of authorization.

D. What Happens If EPA Receives Comments on This Action?

If EPA receives comments on this proposed action, we will address those comments in a later final rule. You may not have another opportunity to comment. If you want to comment on this authorization, you must do so at this time.

E. What Has Michigan Previously Been Authorized for?

Michigan initially received final authorization on October 16, 1986, effective October 30, 1986 (51 FR 36804-36805) to implement the RCRA hazardous waste management program. We granted authorization for changes to Michigan's program on November 24, 1989, effective January 23, 1990 (54 FR 48608); on January 24, 1991, effective June 24, 1991 (56 FR 18517); on October 1, 1993, effective November 30, 1993 (58 FR 51244); on January 13, 1995, effective January 13, 1995 (60 FR 3095); on February 8, 1996, effective April 8, 1996 (61 FR 4742); on November 14, 1997, effective November 14, 1997 (62 FR 61775); on March 2, 1999, effective June 1, 1999 (64 FR 10111); on July 31, 2002, effective July 31, 2002 (67 FR 49617); on March 9, 2006, effective March 9, 2006 (71 FR 12141), and on January 7, 2008 (73 FR 1077), effective January 7, 2008.

F. What Changes Are We Proposing?

On September 26, 2008, Michigan submitted a complete program revision application seeking authorization of its changes in accordance with 40 CFR 271.21. We have preliminarily determined that Michigan's hazardous waste management program revision satisfies all requirements necessary to qualify for final authorization. Therefore, we propose to grant Michigan final authorization for the following program changes:

Description of Federal requirement | Revision checklist ¹ | Federal Register date and page | Analogous State authority
Non-wastewaters from Dyes and Pigments | 206, 206.1 | February 24, 2005, 70 FR 9138; as amended on June 16, 2005, 70 FR 35032 | R 299.9311, R 299.9413, and R 299.9627, effective September 11, 2000.
|  |  | R 299.9204(2) and (2)(o)-(o)(v)(B), R 299.9222, and R 299.11003(1)(i), (j), and (u), and (2), effective March 17, 2008.
Uniform Hazardous Waste Manifest | 207, 207.1 | March 6, 2005, 70 FR 10776; as amended on June 16, 2005, 70 FR 35037 | R 299.9601(1) and (2)(c) and (e), effective December 16, 2004.
|  |  | R 299.9102(z), R 299.9105(m) and (n); R 299.9207(3)(b)(i)-(ii); R 299.9304(1), (1)(a) and (b), and (6); R 299.9305(1), (1)(d) and (d)(i) and (e); R 299.9306(11) and (12); R 299.9307(3); R 299.9309(2)(c); R 299.9310(2) and (2)(c) and (3); R 299.9405(2)(f) and (g) and (3)(d) and (f); R 299.9409(1)-(3) and (5); R 299.9608(1), (2), and (5)-(8); R 299.9610(2) and (5); and R 299.11003(1)(k) and (l) and (n), effective March 17, 2008.
Methods Innovation; SW-846 | 208, 208.1 | June 14, 2005, 70 FR 34538; as amended on August 1, 2005, 70 FR 44150 | R 299.9211(1)(a) and (4), effective February 15, 1989.
|  |  | R 299.9630 and R 299.9631, effective June 21, 1994.
|  |  | R 299.9812(4), R 299.9813(4), and R 299.9814(5), effective October 15, 1996.
|  |  | R 299.9212(1)(a), R 299.9230(2) and (3), R 299.9311, R 299.9413, R 299.9508(1)(b), R 299.9627, and R 299.9637, effective September 11, 2000.
|  |  | R 299.9601(1), (2)(h) and (3), R 299.9619(1) and (8), and R 299.9809(2)(b), effective December 16, 2004.
|  |  | R 299.9203(1)(e); R 299.9212(1)(a) and (a)(iv) and (2)(a) and (b); R 299.9227(3)(c) and (6); R 299.9504(4)(a) and (b), (15) and (21); R 299.9615; R 299.9808(8) and (10); R 299.11001; R 299.11002; R 299.11003(1)(h), (i), (j), (m), (p), (r), (t), (u), (v); and R 299.11005(1), (2), (4), (5) and (7), effective March 17, 2008.
Mercury Containing Equipment | 209 | August 5, 2005, 70 FR 45508 | R 299.9109(g), (i), and (j), effective September 11, 2000.
|  |  | R 299.9101(r); R 299.9228(1)(c)-(f); (2), (2)(h) and (i), (4)(a) and (d), (5)(b), and (11); R 299.9503(1)(j); and R 299.11003(1)(w), effective March 17, 2008.
Revison of Wastewater Treatment Exemptions for Hazardous Waste Mixtures—“Headworks Exemption” | 211 | October 4, 2005, 70 FR 57769 | R 299.9203(1)(c)(i) and (c)(i)(D) and (E), (c)(ii) and (c)(ii)(A)-(O), (c)(iv) and (c)(iv)(A)-(G), (c)(vi), and (c)(vii), effective March 17, 2008.
NESHAP: Final Standards for Hazardous Waste Combusters (Phase I Final Replacement Standards and Phase II) | 212 | October 12, 2005, 70 FR 59402 | R 299.9508(1) and (1)(b), effective September 11, 2000.
|  |  | R 299.9601(2)(i), effective December 16, 2004.
|  |  | R 299.9504(4), (12), (13), (20) and (21); R 299.9519(5)(k), (l) and (l)(i)-(iv) and (6); R 299.9521(3)(c) and (6); R 299.9623(2) and (3); R 299.9624 (rescinded); R 299.9625 (rescinded); R 299.9626 (rescinded); R 299.9640(1), (2), (4) and (5); R 299.9808(4), (5)(b) and (d), (8) and (10); R 299.11001(1) and (3); and R 299.11003(1)(v), effective March 17, 2008.
Burden Reduction Initiative | 213 | April 4, 2006, 71 FR 16862 | R 299.9618, effective December 28, 1985.
|  |  | R 299.9631 and R 299.9632(1) and (3), effective June 21, 1994.
|  |  | R 299.9617(1) and (3), effective October 15, 1996.
|  |  | R 299.9311, R 299.9413, R 299.9508(1)(a), (b) and (d) and (5), R 299.9627, and R299.9638(1) and (4), effective September 11, 2000.
|  |  | R 299.9502(7); R 299.9601(2)(b), (d), and (f)-(h), (3) and (9); R 299.9614(1)(a) and (2); R 299.9619(1) and (8); R 299.9626(10); and R299.9703(5), effective December 16, 2004.
|  |  | R 299.9204(1)(u)(v)(A)-(C) and (10)(i); R 299.9504(1), (3), (14), (17), (19) and (20); R 299.9519(5)(m); R 299.9605(1) and (4); R 299.9607(1) and (4); R 299.9609(1)(a) and (5); R 299.9612(1) and (2); R 299.9613(1), (3)-(5) and (7); R 299.9615(1) and (7); R 299.9623(4) and (11); R 299.9629(10); R 299.9710(6) and (16); R 299.9808(8) and (10); and R 299.11003(1)(h), (m), (n), (p), (r), (u) and (v), effective March 17, 2008.
Corrections to Errors in the Code of Federal Regulations | 214 | July 14, 2006, 71 FR 40254 | Michigan Compiled Laws 324.11148, effective September 1, 1998.
|  |  | R 299.9618, effective December 28, 1985.
|  |  | R 299.9702 and R 299.9704, effective April 20, 1988.
|  |  | R 299.9628(1) and (4), effective November 19, 1991.
|  |  | R 299.9217, R 299.9630, R 299.9631, and R 299.9632(1) and (3), effective June 21, 1994.
|  |  | R 299.9214(2) and (3), R 299.9617(1) and (3), R 299.9812(3), (4) and (7), R 299.9813(3), (6) and (7), and R 299.9814(4), (5) and (8), effective October 15, 1996.
|  |  | R 299.9210(2), R 299.9312(1) and (3), R 299.9616(1) and (4), and R 299.9634, effective September 22, 1998.
|  |  | R 299.9206(1)(b)-(d) and(2)-(5), R 299.9230(1)(a)(iii), (2) and (3), R 299.9311, R 299.9413, R 299.9605(1) and (4), R 299.9627, R 299.9638(1) and (4), R 299.9701, R 299.9708(6), R 299.9709, R 299.9803(1)(d) and (e), (5) and (6), and R 299.9804, effective September 11, 2000.
|  |  | R 299.9106(b), (j), (m) and (w), R 299.9109(g) and (p), R 299.9202(2), R 299.9220, R 299.9601(2)(b), (g) and (h), and (3) and (9), R 299.9614(1)(a) and (2), R 299.9619(1) and (8), R 299.9635(12)(d), (d)(ii) and (f), R 299.9639(5)(f), R 299.9703(8)(a), R 299.9706, R 299.9809(1)(f), (2)(b)(ii) and (3), and R 299.9815(2)(a), effective December 16, 2004.
|  |  | R 299.9104(p), R 299.9204(1)(x), (2)(f)(ii), (2)(g) and (g)(iii)(A) and (B) and (vi), (2)(k), (3) and (3)(b), (7)(f) and (8)(a), R 299.9212(1)(c), (6)(a) and (9), R 299.9222, R 299.9224, R 299.9225, R 299.9228(4)(a), (5)(b) and (11), R 299.9309(1) and (4), R 299.9503(1)(c), R 299.9504(1)(e) and (g) and (17), R 299.9519(4) and (9)(a), R 299.9605(1) and (4), R 299.9612, R 299.9613(1), (4), (5) and (7), R 299.9615(1) and (7), R 299.9623(4) and (5), R 299.9705(5) and (6), R 299.9710(3)(a) and (e), (6), (10) and (17)(a), R 299.9808(4), (8) and (10), and R 299.11003(1)(h)-(k), (m), (n), (p), (q), (t), (u), (v), (w) and (x), effective March 17, 2008.
Cathode Ray Tubes Rule | 215 | July 28, 2006, 71 FR 42928 | R 299.9102(b), (w), (x) and (y), R 299.9109(x) and (y), R 299.9204(1)(z)(i)-(iv), R 299.9230, R 299.9231, and R 299.11003(1)(i), effective March 17, 2008.
¹ Revision Checklists generally reflect changes to Federal regulations pursuant to a particular Federal Register notice; EPA publishes these checklists as aids to States to use for development of their authorization revision application. See EPA's RCRA State Authorization Web Page at http://www.epa.gov/epawaste/laws-regs/state/index.htm.

Equivalent State-Initiated Changes
State requirement | Effective date(s) of state-initiated modification | Description of change
MAC R 299.9101(a) “Aboveground tank” | 10/15/1996 | Words “is able to be” changed to “and can be.”
MAC R 299.9101(b) “Act” | 12/16/2004 | Words “Act No. 451 of the Public Acts of 1994, as amended, being 324.101 et seq. of the Michigan Compiled Laws” changed to “1994 PA 451 § 324.101.”
MAC R 299.9101(c) “Act 138” | 12/16/2004 | Same as above.
MAC R 299.9101(d) “Act 181” | 12/16/2004 | Same as above.
MAC R 299.9101(e) “Act 207” | 12/16/2004 | Same as above.
MAC R 299.9101(f) “Act 218” | 12/16/2004 | Same as above.
MAC R 299.9101(g) “Act 236” | 12/16/2004 | Same as above.
MAC R 299.9101(h) “Act 300” | 12/16/2004 | Same as above.
MAC R 299.9101(i) “Act 306” | 12/16/2004 | Same as above.
MAC R 299.9101(j) “Act 368” | 12/16/2004 | Same as above.
MAC R 299.9101(k) “Act 399” | 12/16/2004 | Same as above.
MAC R 299.9101(o) “Administrator” | 12/16/2004 | Words “United States EPA” changed to “EPA.”
MAC R 299.9101(x) “Authorized representative” | 6/21/1994, renumbered as (x) effective 3/17/2008 | Word “of” changed to “who has” and word “responsibility” changed to “responsibilities.”
MAC R 299.9101(x) “Boiler” | 12/16/2004, renumbered as (z) effective 3/17/2008 | Words “the provisions of” deleted.
MAC R 299.9102(a) “CERCLA” | 6/21/1994, renumbered as (c) effective 3/17/2008 | Term added; term is used elsewhere in the rules.
MAC R 299.9102(e) “Closed portion” | 10/15/1996, renumbered as (h) effective 3/17/2008 | Word “that” changed to “the” and word “which” changed to “that.”
MAC R 299.9102(g) “Commingling” | 10/15/1996, renumbered as (j) effective 3/17/2008 | Term added; term is used in Part 3 of the rules.
MAC R 299.9102(h) “Component” | 10/15/1996, renumbered as (k) effective 3/17/2008 | Word “the” inserted.
MAC R 299.9102(g) “Confined aquifer” | 6/21/1994, renumbered as (l) effective 3/17/2008 | Words “that is,” “it is” and “that” inserted, word “of” changed to “that have a” and word “containing” changed to “contains.”
MAC R 299.9102(k) “Consolidation” | 10/15/1996, renumbered as (n) effective 3/17/2008 | Term added; term is used in Part 3 of rules.
MAC R 299.9102(n) “Constituent” | 12/16/2004, renumbered as (o) effective 3/17/2008 | Words “the provisions of” deleted.
MAC R 299.9102(m) “Construction permit” | 10/15/1996, renumbered as (p) effective 3/17/2008 | Modified to reflect the recodification of the former Act 64 into Part 111 of Act 451.
MAC R 299.9102(m) “Corrosion expert” | 6/21/1994, renumbered as (v) effective 3/17/2008 | Words “such as” deleted and word “the” inserted.
MAC R 299.9103(b) “Element” | 12/16/2004 | Word “constituent” deleted.
MAC R 299.9103(c)(i) “Elementary neutralization unit” | 12/16/2004 | Words “the provisions of” deleted.
MAC R 299.9103(e) “EPA acknowledgment of consent” | 10/15/1996, renumbered as (g) effective 12/16/2004 | Word “which” inserted.
MAC R 299.9103(g) “EPA identification number” (deleted) | 12/16/2004 | Term deleted (replaced with term “Site identification number”).
MAC R 299.9103(h) “EPA region” | 12/16/2004 | Words “the provisions of” deleted.
MAC R 299.9103(i) “Equivalent method” | 12/16/2004 | Words “the provisions of” deleted.
MAC R 299.9103(m) “Existing portion” | 12/16/2004 | Words “the provisions of” deleted.
MAC R 299.9103(n) “Existing tank system” | 12/16/2004 | Word “will” changed to “shall.”
MAC R 299.9103(q) “Federal hazardous materials transportation act” | 6/21/1994, renumbered as (x) effective 12/16/2004 | Public Law citation changed from “89-670” to “93-633.”
MAC R 299.9103(s) “Facility mailing list” | 12/16/2004 | Words “in accordance with the provisions of” changed to “pursuant to.”
MAC R 299.9103(v) “Floodplain” | 6/21/1994, renumbered as (bb) effective 12/16/2004 | Word “which” changed to “that.”
MAC R 299.9103(x) “Freeboard” | 6/21/1994, renumbered as (ff) effective 12/16/2004 | Word “therein” changed to “in the tank or surface impoundment dike.”
MAC R 299.9103(y) “Free liquids” | 6/21/1994, renumbered as (gg) effective 12/16/2004 | Word “which” changed to “that” and word “under” changed to “at.”
MAC R 299.9103(bb) “Final closure” | 12/16/2004 | Words “in accordance with the provisions of” changed to “pursuant to” and words “the provisions of” deleted.
MAC R 299.9104(f) and (f)(i)-(viii) “Hazardous waste management unit” | 6/21/1994 | Word “is” changed to “means.”
MAC R 299.9104(g) “Hazardous waste number” | 6/21/1994 | Word “which” changed to “that.”
MAC R 299.9104(m) “Inactive portion” | 6/21/1994 | Word “which” changed to “that.”
MAC R 299.9104(o) “In-ground tank” | 6/21/1994, renumbered as (t) effective 9/11/2000 | Word “specified” inserted, word “whereby” changed to “and which has,” words “the tank” changed to “its,” word “is” deleted, word “that” changed to “the,” and word “tank” changed to “devise.”
MAC R 299.9105(c) “Landfill cell” | 10/15/1996, renumbered as (d) effective 12/16/2004 | Word “which” changed to “that.”
MAC R 299.9105(q) “Military munitions” | 12/16/2004 | Words “any of the following” inserted.
MAC R 299.9106(c) “On-site treatment facility” | 10/15/1996 | Words “which is” and “and” inserted and word “those” changed to “the.”
MAC R 299.9106(e) “Operating license” | 12/16/2004 | Words “pursuant to” changed to “under.”
MAC R 299.9106(h) “Partial closure” | 12/16/2004 | Words “in accordance with” changed to “pursuant to.”
MAC R 299.9106(r) “Primary exporter” | 12/16/2004 | Words “in accordance with” changed to “pursuant to.”
MAC R 299.9106(u)(ii) “Processing” | 12/16/2004 | Word “the” deleted.
MAC R 299.9107(i) “Remedial action plan” | 12/16/2004 | Words “the provisions of” deleted.
MAC R 299.9107(q) “Scrap metal” | 12/16/2004 | Word “can” changed to “may.”
MAC R 299.9107(s) “Site identification number” | 12/16/2004 | New term added to replace removal of “EPA identification number.”
MAC R 299.9107(z) “Speculative accumulation” | 12/16/2004 | Word “it” changed to “material,” words “can show” changed to “shows that,” and words “requirements are met” inserted.
MAC R 299.9107(bb) “Staging pile” | 12/16/2004 | Words “in accordance with the requirements of” changed to “pursuant to.”
MAC R 299.9107(dd) “Sump” | 9/11/2000, renumbered as (ee) effective 12/16/2004 | Word “subsequent” changed to “later.”
MAC R 299.9108(a) “Tank” | 6/21/1994 | Word “which” changed to “that” and word “and” added.
MAC R 299.9108(c) “Thermal treatment” | 6/21/1994, renumbered as (d) effective 9/11/2000 | Word “which” changed to “that” word “the” changed to “all of the.”
MAC R 299.9108(g) “Totally enclosed treatment facility” | 9/11/2000 | Word “thereof” deleted and words “of a hazardous waste” added.
MAC R 299.9108(k) “Treatment” | 6/21/1994, renumbered as (m) effective 9/11/2000 | Word “which” changed to “that” and word “the” changed to “all of the.”
MAC R 299.9108(n) “Trial burn” | 6/21/1994, renumbered as (p) effective 9/11/2000 | Word “under” deleted and words “pursuant to the” inserted.
MAC R 299.9108(o) “Trial operation” | 6/21/1994, renumbered as (q) effective 9/11/2000 | Word “under” deleted and words “that is” and “pursuant to” inserted.
MAC R 299.9109(b) “Underground tank” | 6/21/1994 | Word “specified” inserted, word “the” changed to “and which has its,” and words “of which is” deleted.
MAC R 299.9109(g) “Uppermost aquifer” | 6/21/1994, renumbered as (n) effective 9/11/2000 | Word “this” changed to “the.”
MAC R 299.9109(l) “Vessel” | 6/21/1994, renumbered as (ee) effective 9/11/2000 | Words “includes every description of” changed to “means” and word “which” changed to “that.”
MAC R 299.9109(n) “Waste” | 6/21/1994, renumbered as (gg) effective 9/11/2000 | Words “that is” added.
MAC R 299.9109(hh) “Waste management area” | 9/11/2000 | Word “then” inserted and word “one” changed to “1.”
MAC R 299.9109(p) and (p)(i)-(iii) “Wastewater treatment unit” | 6/21/1994, renumbered as (ii) and (ii)(i)-(ii) effective 9/11/2000 | Word “which” changed to “that,” word “under” changed to “pursuant to the provisions of,” and words “or `tank system' specified” inserted.
MAC R 299.9109(q) “Water (bulk shipment)” | 6/21/1994, renumbered as (jj) effective 9/11/2000 | Word “which” changed to “that.”
MAC R 299.9109(r) “Well” | 6/21/1994, renumbered as (kk) effective 9/11/2000 | Words “which is” added.
MAC R 299.9109(kk) “Wetland” | 10/15/1996, renumbered as (ll) effective 9/11/2000 | Words “No. 203 of the Public acts of 1979, as amended, being § 281.701 et seq. of the Michigan Compiled Laws” deleted and words “part 303 of the” inserted, and word “those” changed to “the.”
MAC R 299.9109(t) “Zone of engineering control” | 6/21/1994, renumbered as (mm) effective 9/11/2000 | Word “that” deleted and words “which is” and “and which” inserted.
MAC R 299.9201(1) and (2) | 9/22/1998 | Modified to reflect the fact that sections 47 and 4 of the former Hazardous Waste Management Act, 1979 PA 64, as amended (Act 64) have been recodified in sections 48 and 3 of Part 111, Hazardous Waste Management, of Act 451, respectively.
MAC R 299.9202(1)(b), (v)(A) and (B); (2) and (2)(e); (3); (4); and (5) | 10/15/1996 | Word “which” changed to “that.”
MAC R 299.9202(1)(b)(i), (iv) | 10/15/1996 | Words “one of the materials” changed to “a material.”
MAC R 299.9202(1)(b)(i)(B) and (ii) | 9/11/2000 | Word “products” changed to “product,” word “are” changed to “is,” word “wastes” changed to “waste,” words “they are” changed to “it is,” and word “their” changed to “its.”
MAC R 299.9202(1)(b)(v) | 10/15/1996 | Word “other” changed to “is another.”
MAC R 299.9202(1)(b)(v)(A) | 10/15/1996 | Words “which are” inserted, words “these constituents” deleted, and word “which” inserted.
MAC R 299.9202(1)(b)(vi) | 12/16/2004 | Words “in accordance with” changed to “pursuant to.”
MAC R 299.9202(6)(a) | 12/16/2004 | Reference to R 299.9107 corrected.
MAC R 299.9202(7) | 12/16/2004 | Words “the provisions of” deleted.
MAC R 299.9203(1) and (1)(b); (2) and (2)(b); (4)(b); (5)(a) and (b); and (6) | 12/16/2004 | Words “the provisions of” deleted.
MAC R 299.9203(4)(c)(iii) and (6)(a) | 12/16/2004 | Word “one” changed to “1.”
MAC R 299.9203(4)(c)(iii)(B) | 9/11/2000 | Words “by the person claiming the exclusion” inserted.
MAC R 299.9203(4)(c)(iii)(C)(2) | 12/16/2004 | Word “EPA” changed to “site.”
MAC R 299.9203(4)(e) | 3/17/2008 | Words “1 or more” changed to “either or both.”
MAC R 299.9204(1), (4) and (6) | 10/15/1996 | Modified to reflect the recodification of the former Act 64 into Part 111 of Act 451.
MAC R 299.9204(1)(b), (n), (u)(iv); (2)(a), (i) and (l); (7) and (7)(c)(ii), (d), and (e)(iii)(B); (8); (9); (10)(b), (g)(i) and (vii) and (j); and (11) | 12/16/2004 | Words “the provisions of” deleted.
MAC R 299.9204(1)(f) and (g) | 12/16/2004 | Reference to R 299.9107 corrected.
MAC R 299.9204(1)(h)(iv) | 6/21/1994 | Word “constituting” changed to “that constitutes.”
MAC R 299.9204(1)(i) and (j) | 10/15/1996 | Word “that” changed to “which” and word “which” inserted.
MAC R 299.9204(1)(k) | 10/15/1996 | Word “if” inserted, words “provided it is shipped” deleted, words “the residue” inserted, words “is shipped,” and word “is” inserted.
MAC R 299.9204(1)(n) | 12/16/2004 | Word “U.S.” deleted and “subsequent to” changed to “after.”
MAC R 299.9204(2)(b) | 10/15/1996 | Word “soils” changed to “soil.”
MAC R 299.9204(2)(g)(ix) | 3/17/2008 | Based on a petition from the United States Postal Service (USPS), ink generated by the USPS in its automated facer canceled systems was added to the list of wastes not considered hazardous wastes for the purposes of Part 111 of Act 451 and its rules provided the requirements of subrule (g) of the rule are met.
MAC R 299.9204(2)(h) | 12/16/2004 | Words “of this subrule” deleted.
MAC R 299.9204(2)(h)(ii) | 12/16/2004 | Word “will” changed to “shall.”
MAC R 299.9204(7)(f) | 3/17/2008 | Revised to be consistent with the new language in R 299.9308(1).
MAC R 299.9205(1)(c); (2)(b)(i) and (b)(vi)-(x) and (d); (3)(a) and (b); (4)(a)(i), (ii), and (v), (xi), (b)(i) and (ii); (5)(a), (e), and (g)-(i) | 12/16/2004 | Words “the provisions of” deleted.
MAC R 299.9205(2) | 12/16/2004 | Words “(7), (8), and (9)” changed to “(6) and (7)” and words “the provisions of” deleted.
MAC R 299.9205(2)(b)(ii) and (iii) | 10/15/1996 | Word “which” changed to “that,” words “permitted or licensed” changed to “in compliance with the applicable requirements,” words “pursuant to the provisions” deleted, and words “act 641, act 245, or act 348” changed to “parts 31, 55 and 115 of the act.”
MAC R 299.9205(2)(b)(xi) | 12/16/2004 | Words “in accordance with the provisions of” changed to “pursuant to” and “the provisions of” deleted.
MAC R 299.9205(4)(a)(ix)(C)(2) | 12/16/2004 | Word “EPA” changed to “site.”
MAC R 299.9205(4)(a)(xii) and (4)(b)(iv) | 12/16/2004 | Words “Except as otherwise noted in this paragraph” inserted, words “in accordance with the provisions of” changed to “pursuant to” and new sentence allowing municipal household waste collection programs to accumulate conditionally exempt small quantity generator waste on-site for not more than 1 year.
MAC R 299.9205(4)(a)(xiii) | 12/16/2004 | Words “in accordance with the provisions of” changed to “pursuant to.”
MAC R 299.9205(4)(a)(xiv) | 12/16/2004 | Word “one” changed to “1.”
MAC R 299.9205(4)(b)(iv) | 12/16/2004 | Word “in accordance with the provisions of” changed to “pursuant to,” words “except for a municipal household waste collection program” inserted, and word “in” inserted.
MAC R 299.9212(1)(d) and (6)(a) | 12/16/2004 | Words “the provisions of” deleted.
MAC R 299.9212(3)(h) | 12/16/2004 | Words “the provisions of” deleted and word “are” changed to “is.”
MAC R 299.9212(7) | 12/16/2004 | Words “the provisions of” deleted and word “will” changed to “shall.”
MAC R 299.9227(4) | 3/17/2008 | Word “all” changed to “both.”
MAC R 299.9227(5)(l) | 3/17/2008 | Word “MAC” deleted.
MAC R 299.9228(1) and (1)(a); (2)(a), (d), (e), (f)(i)(A) and (B), (g); (3); (4)(c)(iii)(B); and (5)(d) and (e); (8); and (9) | 12/16/2004 | Words “in accordance with” deleted, words “pursuant to” inserted, word “then” inserted, word “subrule” inserted, words “shall be complied with” deleted, and words “the requirements of” deleted.
MAC R 299.9303(1)-(4) | 12/16/2004 | Word “EPA” deleted and word “site” inserted, words “in accordance with the provisions of” changed to “pursuant to” and word “to” inserted.
MAC R 299.9306(1) and (5) | 12/16/2004 | Words “(4), (5), and (6)” changed to “(4), (5), (6), (7), (8), (9), and (10)” and words “a construction permit or” inserted.
MAC R 299.9306(1)(a), (a)(ii)-(iii), (d) and (f) | 12/16/2004 | Words “in accordance with” changed to “pursuant to.”
MAC R 299.9306(1)(a)(i) | 12/16/2004 | Words “the provisions of” deleted and language added regarding alternatives to the 50-foot setback requirement for certain container storage in situations where the generator is unable to comply with this provision or the appropriate authority determines that an alternative arrangement would be more protective of human health and the environment.
MAC R 299.9306(1)(d)(ii) and (4)(i)(iii)(B) | 12/16/2004 | Word “EPA” changed to “site.”
MAC R 299.9306(2) | 12/16/2004 | Words “construction permit or an operating” inserted, and word “the provisions of” deleted.
MAC R 299.9306(4) | 12/16/2004 | Words “the provisions of” deleted and words “a construction permit or” inserted.
MAC R 299.9306(4)(b)(i)-(iii) and (4)(k) | 12/16/2004 | Words “the provisions of” deleted.
MAC R 299.9306(4)(e) | 12/16/2004 | Words “the provisions of” and “the requirements of” deleted.
MAC R 299.9306(5) | 12/16/2004 | Words “a construction permit or” inserted, words “the provisions of” deleted, and words “the requirements of” deleted.
MAC R 299.9306(7)(g) | 3/17/2008 | Word “with” deleted.
MAC R 299.9307(1) | 12/16/2004 | Words “in accordance with” changed to “pursuant to.”
MAC R 299.9307(4) | 3/17/2008 | Words “the data submitted under R 299.9308(1)” inserted and words “each biennial report” deleted.
MAC R 299.9307(5) | 12/16/2004 | Words “the provisions of” deleted.
MAC R 299.9307(7) | 12/16/2004 | Words “subrules (2) and (4)” changed to “subrule (4).”
MAC R 299.9308(1) and (2) | 3/17/2008 | Wording modified to reflect how information typically required in a biennial report is actually collected in Michigan.
MAC R 299.9309(2)(a) and (b) | 12/16/2004 | Word “EPA” changed to “site.”
MAC R 299.9309(2)(g)(i) and (ii) and (2)(i) | 12/16/2004 | Words “in accordance with the provisions of” changed to “pursuant to.”
MAC R 299.9310(1) | 12/16/2004 | Words “the requirements of” deleted.
MAC R 299.9310(2)(a) | 12/16/2004 | Word “EPA” changed to “site.”
MAC R 299.9401(1) and (5) (renumbered from (6) to (5)) | 12/16/2004 | Words “the provisions of” deleted.
MAC R 299.9401(4) | 12/16/2004 | Words “the requirements of” deleted.
MAC R 299.9401(6) (renumbered from (7) to (6) | 12/16/2004 | Words “in accordance with” changed to “pursuant to.”
MAC R 299.9402 | 12/16/2004 | Words “an EPA” changed to “site” and words “from the administrator” deleted.
MAC R 299.9404(2)(b)(i) | 3/17/2008 | Word “EPA” changed to “site.”
MAC R 299.9405 | 10/15/1996 | Entire rule modified to provide more consistency with the regulations codified in 49 CFR.
MAC R 299.9405(3)(b)(i) | 3/17/2008 | Word “EPA” changed to “site.”
MAC R 299.9410(1)(f) | 9/11/2000 | Word “whether” changed to “if.”
MAC R 299.9410(2) | 12/16/2004 | Word “EPA” changed to “site.”
MAC R 299.9410(3)(a)-(c) | 12/16/2004 | Words “the provisions of” deleted.
MAC R 299.9501(3) and (4) | 10/15/1996 | Modified to reflect the recodification of the former Act 64 into Part 111 of Act 451.
MAC R 299.9502(1) and (1)(b); (2) and (2)(a), (b)(i) and (i)(C), (E) and (ii); (3)(a); (5); (6); (8); (9); (10); and (13) | 12/16/2004 | Words “the provisions of” deleted.
MAC R 299.9502(2)(b)(i)(A), (B) and (E) | 12/16/2004 | Words “in accordance with the provisions of” changed to “pursuant to.”
MAC R 299.9502(3) | 12/16/2004 | Word “the” deleted.
MAC R 299.9502(10) | 12/16/2004 | Words “the provisions of” deleted and words “in accordance with” changed to “pursuant to.”
MAC R 299.9502(11)(c) | 12/16/2004 | Word “regulations” changed to “regulation.”
MAC R 299.9503(1), (2), (3), and (4) | 10/15/1996 | Modified to reflect the recodification of the former Act 64 into Part 111 of Act 451.
MAC R 299.9503(1)(a) | 10/15/1996 | Words “parts 31, 55, and 115 of the” and words “641, act 348, or act 245” deleted.
MAC R 299.9503(1)(f) | 10/15/1996 | Words “as applicable” inserted and words “both of” deleted.
MAC R 299.9503(1)(i)(x) | 3/17/2008 | Reference to R 299.9603(1)(b) to (f) corrected.
MAC R 299.9503(4)(c) | 10/15/1996 | Words “part 31, 111, or 201 of the” inserted and words “307, act 64, act 245” deleted.
MAC R 299.9504(1)(b)-(c), (2), and (16) | 12/16/2004 | Word “by” changed to “pursuant to.”
MAC R 299.9504(1)(d), (2), (3), and (14) | 12/16/2004 | Words “by the provisions of” changed to “pursuant to.”
MAC R 299.9504(1)(f), (18), and (19) | 12/16/2004 | Words “the requirements of” deleted.
MAC R 299.9504(1)(h) | 3/17/2008 | Provision added so that the agency can see how public comments were addressed and how applications were revised earlier in the construction permit application process.
MAC R 299.9504(4)(b) and (11)(b) | 12/16/2004 | Words “the provisions of” deleted.
MAC R 299.9504(4)(b)(ii) | 12/16/2004 | Word “R 299.9623” changed to “40 C.F.R. § 264.343.”
MAC R 299.9504(5)(a) | 10/15/1996 | Word “all” changed to “any.”
MAC R 299.9504(5)(a)(v) and (b) | 10/15/1996 | Subrule (b) deleted and new subrule (5)(a)(v) added to provide clarification regarding the prohibition of dilution as a form of treatment for any hazardous wastes rather than just toxicity characteristic wastes.
MAC R 299.9504(5)(c)-(f) | 12/16/2004 | Word “whether” changed to “if.”
MAC R 299.9504(6)(a), (7)(a), (8)(a), (9) and (10) | 12/16/2004 | Words “in the provisions of” changed to “pursuant to.”
MAC R 299.9504(8)(c) | 12/16/2004 | Words “in accordance with the provisions of” changed to “pursuant to.”
MAC R 299.9506(2) | 6/21/1994 | Word “under” changed to “pursuant to the provisions of.”
MAC R 299.9506(2)(a) | 6/21/1994 | Word “such” changed to “the,” words “that are” inserted, words “all of” inserted, and word “this” changed to “the.”
MAC R 299.9506(2)(a)(i), (ii), (iii)(B), (c), (d) and (f); and (6)(a), (b), and (b)(i)(D) | 9/11/2000 | Word “one” changed to “1,” word “two” changed to “2,” word “three” changed to “3,” word “five” changed to “5,” word “ten” changed to “10,” word “when” changed to “if,” word “method” changed to “methods,” words “subsequent to” changed to “following.”
MAC R 299.9506(2)(a)(ii)(C) and (6)(a)(iii) | 6/21/1994 | Word “under” changed to “pursuant to.”
MAC R 299.9506(4)(d) | 9/22/1998 | Modified to reflect the fact that the former Environmental Response Act, 1982 PA 307 (Act 307), has been recodified in Part 201, Environmental Response, of Act 451.
MAC R 299.9506(6) | 6/21/1994 | Words “that is” inserted.
MAC R 299.9506(6)(f) | 6/21/1994 | Word “such” changed to “the,” words “include consideration of” changed to “consider” and word “factors” inserted.
MAC R 299.9506(8) | 9/11/2000 | Word “264.100” deleted.
MAC R 299.9508(1)(c), (g) and (i) | 10/15/1996 | Words “part 111 of” inserted, and words “section 22(3)” changed to “section 23(3).”
MAC R 299.9509(1) and (2) | 9/22/1998 | Modified to reflect the recodification of the former Act 64 into Part 111 of Act 451.
MAC R 299.9510(1) | 9/22/1998 | Modified to reflect the recodification of the former Act 64 into Part 111 of Act 451.
MAC R 299.9513(1) and (3)(b) | 9/22/1998 | Modified to reflect the recodification of the former Act 64 into Part 111 of Act 451.
MAC R 299.9514(2) | 12/16/2004 | Word “when” changed to “if.”
MAC R 299.9514(2)(b) | 12/16/2004 | Word “might” changed to “may.”
MAC R 299.9514(2)(c) | 12/16/2004 | Word “by” changed to “pursuant to.”
MAC R 299.9514(4) | 9/22/1998 | Modified to correct references to the provisions of R 299.9511 which have also been modified.
MAC R 299.9516(8) | 10/15/1996 | Modified to reflect the recodification of the former Act 64 into Part 111 of Act 451.
MAC R 299.9517(1) and (2)(b) | 9/22/1998 | Modified to reflect the recodification of the former Act 64 into Part 111 of Act 451
MAC R 299.9518(1) and (2)(a) and (b) | 9/22/1998 | Modified to reflect the recodification of the former Act 64 into Part 111 of Act 451 and subrule (2)(a) has been modified to reflect the fact that section 22 of the former Act 64 has been recodified in section 23 of Part 111 of Act 451.
MAC R 299.9519(1); (3)(a); (5); (6)(a)(v) and (b); (9)(c); (10)(d); (12); and (13) | 12/16/2004 | Words “in accordance with the provisions of” changed to “pursuant to.”
MAC R 299.9519(2) | 12/16/2004 | Words “the provisions of” deleted and words “in accordance with the provisions of” changed to “pursuant to.”
MAC R 299.9519(3)(c) and (d) | 12/16/2004 | Words “the provisions of” deleted.
MAC R 299.9519(3)(e) | 3/17/2008 | Word “R 299.9521” changed to “R 299.9522.”
MAC R 299.9519(11)(a) | 10/15/1996 | Modified to reflect the recodification of the former Act 64 into Part 111 of Act 451.
MAC R 299.9520(4) | 9/22/1998 | Modified to reflect the recodification of the former Act 64 into Part 111 of Act 451 and the fact that section 48 of the former Act 64 has been recodified in section 51 of Part 111 of Act 451.
MAC R 299.9521(3) and (3)(a) | 10/15/1996 | Modified to reflect the recodification of the former Act 64 into Part 111 of Act 451.
MAC R 299.9522(1)-(3) | 9/22/1998 | Modified to reflect the recodification of the former Act 64 into Part 111 of Act 451.
MAC R 299.9601(2); (4); and (5) | 12/16/2004 | Words “the provisions of” deleted.
MAC R 299.9601(2)(p) | 12/16/2004 | Provision added requiring interim status facilities to comply with R 299.9639 for disposal of corrective action management unit-eligible waste in hazardous waste landfills.
MAC R 299.9601(3)(b) | 12/16/2004 | Words “the provisions of” changed to “pursuant to.”
MAC R 299.9601(7) | 10/15/1996, renumbered as (8) effective 9/11/2000 | Word “47” changed to “48” and words “part 111 of” inserted.
MAC R 299.9602(1)(a) and (c) and (2) | 9/22/1998 | Modified to reflect the fact that the former Water Resources Commission Act, 1929 PA 245 (Act 245), has been recodified in Part 31, Water Resources Protection, of Act 451.
MAC R 299.9602(1)(b) | 9/22/1998 | Modified to reflect the fact that the former Air Pollution Control Act, 1956 PA 345 (Act 348), has been recodified in Part 55, Air Pollution Control, of Act 451.
MAC R 299.9603(1)(b) | 9/22/1998 | Modified to reflect the fact that the former Act 245 has been recodified in Part 31 of Act 451.
MAC R 299.9603(1)(c) | 9/22/1998 | Modified to reflect the fact that the former Shorelands Protection and Management Act, 1970 PA 245, has been recodified in Part 323, Shorelands Protection and Management, of Act 451.
MAC R 299.9603(2) | 9/22/1998 | Modified to reflect the recodification of the former Act 64 into Part 111 of Act 451.
MAC R 299.9603(3)(c) | 9/22/1998 | Modified to refect the fact that the former Act 348 has been recodified in Part 55 of Act 451.
MAC R 299.9604(2) | 9/22/1998 | Modified to reflect the recodification of the former Act 64 of Part 111 of Act 451.
MAC R 299.9607(2)(b) | 12/16/2004 | Word “EPA” changed to “site.”
MAC R 299.9607(3) | 12/16/2004 | Words “the requirements of” deleted.
MAC R 299.9608(6) | 12/16/2004, renumbered as (4) effective 3/17/2008 | Words “the provisions of” deleted.
MAC R 299.9609(1) | 3/17/2008 | Words “or in an alternate location approved by the director or the director's designee” inserted.
MAC R 299.9610(1) | 3/17/2008 | Revised to reflect how information typically required in a biennial report is actually collected in Michigan.
MAC R 299.9610(2)(a) and (c) | 12/16/2004 | Word “EPA” changed to “site.”
MAC R 299.9610(4) | 12/16/2004 | Words “in accordance with the provisions of” changed to “pursuant to.”
MAC R 299.9611(1) | 6/21/1994 | Words “that is” inserted.
MAC R 299.9611(3)(a) and (a)(i)-(iii) | 6/21/1994 | Modified to clarify provisions for groundwater monitoring waivers to allow owners or operators the ability to monitor an entire TSDF for environmental effects, thereby allowing the integration of site-wide corrective action remediation programs into hazardous waste management unit monitoring programs at a more economical cost.
MAC R 299.9611(3)(a)(iii) and (5) | 10/15/1996 | Modified to reflect the recodification of the former Act 64 into Part 111 of Act 451.
MAC R 299.9611(3)(b) | 6/21/1994 | Word “under” changed to “pursuant” and word “this” changed to “the.”
MAC R 299.9612(1)(c) | 9/11/2000 | Word “one” changed to “1” and word “then” inserted.
MAC R 299.9612(1)(c)(i) | 6/21/1994 | Word “this” changed to “the.”
MAC R 299.9612(1)(c)(iii) | 9/11/2000 | Words “whether or not” changed to “if.”
MAC R 299.9612(1)(d) and (f) | 9/22/1998 | Modified to reflect the fact that the former Act 245 and Act 307 have been recodified in Parts 31 and 201 of Act 451, respectively.
MAC R 299.9612(1)(e) | 9/11/2000 | Word “whether” changed to “if.”
MAC R 299.9612(1)(g) | 9/22/1998 | Modified to reflect the recodification of the former Act 64 in Part 111 of Act 451 and the fact that sections 47 and 48 of the former Act 64 have been recodified in sections 48 and 51 of Part 111 of Act 451, respectively.
MAC R 299.9613(2) | 3/17/2008 | Word “more” changed to “less.”
MAC R 299.9619(3), (6)(a)(iv) and (c), and (7) | 12/16/2004 | Words “in accordance with the provisions of” changed to “pursuant to” and words “the provisions of” deleted.
MAC R 299.9619(5), (5)(a) and (b) | 9/11/2000 | Subrule added in order to provide for alternative leachate collection and removal system design and operating practices if certain conditions are met.
MAC R 299.9619(6)(a)(iii) | 9/11/2000 | Revised to clarify that in order to provide a minimum base for root penetration, the top component of the additional material shall consist of not less than 15 centimeters of topsoil. Thus, the total thickness of the protective layer shall not be less than 60 centimeters, depending upon the implications of the maximum depth of frost penetration.
MAC R 299.9621(1)(c)(vi) | 10/15/1996 | Modified to provide a more accurate test method by which owners and operators will be required to determine the permeability of the clay base of the land-based unit.
MAC R 299.9629(1), (3)(a) and (b), (6), (8)(a)-(c), (9), and (11) | 12/16/2004 | Words “in accordance with” changed to “pursuant to.”
MAC R 299.9629(1)(a) and (b), (3), (3)(a)(i)-(v), and (b)(i)-(iii) | 12/16/2004 | Words “the provisions of” deleted.
MAC R 299.9703(2)-(4) and (6) | 9/11/2000 | Word “one” changed to “1” and “ten” changed to “10.”
MAC R 299.9703(9) | 12/16/2004 | Words “265.90(f), and 265.110(d)” inserted and word “and” deleted.
MAC R 299.9705(1) and (1)(a) and (b) | 3/17/2008 | Amended to clarify requirements regarding surety bonds used to demonstrate financial assurance for closure and postclosure.
MAC R 299.9708(5), (9), (9)(c), (10), (10)(a)-(b), and (11) | 9/11/2000 | Words “party or parties” changed to “person or persons.”
MAC R 299.9710(4), (5), and (9)(b)(i) | 9/11/2000 | Word “one” changed to “1.”
MAC R 299.9710(9)(b)(i) | 9/11/2000 | Words “and/or” changed to “or” and words “or both” inserted.
MAC R 299.9710(9)(e) | 9/11/2000 | Words “in the case of corporations that are” changed to “a corporation is” and word “then” inserted.
MAC R 299.9710(14) | 9/11/2000 | Word “R 299.9613(2)” changed to “R 299.9613(3).”
MAC R 299.9712(1) | 9/22/1998 | Modified to reflect the recodification of the former Act 46 in Part 111 of Act 451.
MAC R 299.9801(1)(b) and (7) | 6/21/1994 | Word “combination” changed to “combining.”
MAC R 299.9801(8) | 12/16/2004 | Words “the provisions of” deleted.
MAC R 299.9802 (entire rule rescinded) | 10/15/1996 | Rule rescinded because hazardous waste being burned for energy recovery is now subject to regulation under R 299.9808.
MAC R 299.9803(6)(a) | 9/11/2000 | Words “whether or not” changed to “if.”
MAC R 299.9803(6)(b) | 9/11/2000 | Word “then” inserted and word “six” changed to “6” and last two sentences corrected to insert missing wording.
MAC R 299.9808(1) | 9/11/2000 | Words “and (3)” changed to “to (4).”
MAC R 299.9808(2) and (3)(c) | 12/16/2004 | Words “regulation under” deleted.
MAC R 299.9808(2)(a) | 12/16/2004 | Words “under the provisions of” changed to “pursuant to.”
MAC R 299.9808(2)(c) | 12/16/2004 | Words “the provisions of” deleted and words “under the provisions of” changed to “pursuant to.”
MAC R 299.9808(3)(c) | 12/16/2004 | Words “the provisions of” deleted.
MAC R 299.9808(5) | 12/16/2004, renumbered as (6) effective 3/17/2008 | Words “the requirements of” deleted.
MAC R 299.9808(8), (8)(a)(ii) and (8)(c) | 12/16/2004, renumbered as (9), (9)(a)(ii) and (9)(c), effective 3/17/2008 | Words “the provisions of” deleted.
MAC R 299.9809(1)(a) | 12/16/2004 | Words “except a mixture of used oil and halogenated hazardous waste listed under R 299.9213 or R 299.9214” inserted.
MAC R 299.9809(2)(c) | 12/16/2004 | Word “are” deleted.
MAC R 299.9809(2)(n) | 9/11/2000 | Word “then” inserted.
MAC R 299.9809(2)(o) | 9/11/2000 | Word “when” inserted.
MAC R 299.9815(3)(a)(i) and (e)(i) and (ii) | 12/16/2004 | Word “EPA” changed to “site.”
MAC R 299.9819 | 12/16/2004 | Words “the requirements of” deleted and word “R 299.9401(7)” changed to “R 299.9401(6).”
MAC R 299.11003(1)(b) | 9/11/2000 | Adoption by reference of 40 CFR Part 63, subparts EEE and LLL added.
MAC R 299.11004(5) | 3/17/2008 | Updated address where to obtain a document.
MAC R 299.11007(2) | 12/16/2004 | Updated address where to obtain a document.
MAC R 299.11008(2) | 12/16/2004 | Updated address where to obtain a document.

G. Where Are the Revised State Rules Different From the Federal Rules?

The most significant differences between the State rules we are proposing to authorize and Federal rules are summarized below. It should be noted that this summary does not describe every difference or every detail regarding the differences that are described. Members of the regulated community are advised to read the complete rules to ensure that they understand the requirements with which they will need to comply.

There are aspects of the Michigan program which are more stringent than the Federal program. All of these more stringent requirements are or will become part of the Federally enforceable RCRA program when authorized by the EPA, and must be complied with in addition to the State requirements which track the minimum Federal requirements. These more stringent requirements are found at (references are to the Michigan Administrative Code):

Michigan does not allow containment buildings, making the State requirements more stringent than the Federal requirements at 40 CFR part 264 subpart DD, 40 CFR 265 subpart DD, and 40 CFR part 264 appendix I, Tables 1 and 2.

Michigan's regulations at R 299.9601(1), (2)(b), (2)(c), (2)(h), (2)(i), and (3); R 299.9608(1), (6) and (8); R 299.9615; and R 299.9702(1) are more stringent than the Federal analogs at 40 CFR 265.56(b), 265.71, 265.72, 265.142(a), 265.174, 265.190(a), 265.193, 265.194, 265.197, 265.201, and 265.340(b)(1) since the State requires compliance with standards equivalent to 40 CFR part 264 rather then 40 CFR part 265.

Michigan's regulations at R 299.11002(1) and (2) are more stringent than the Federal analogs at 40 CFR 260.11(d) and (d)(1) since the State adopts updated versions of the “Flammable and Combustible Liquids Code.”

H. Who Handles Permits After the Authorization Takes Effect?

Michigan will continue to issue permits for all the provisions for which it is authorized and will administer the permits it issues. EPA will continue to administer any RCRA hazardous waste permits or portions of permits which we issued prior to the effective date of this authorization until they expire or are terminated. We will not issue any more new permits or new portions of permits for the provisions listed in the tables above after the effective date of this authorization. EPA will continue to implement and issue permits for HSWA requirements for which Michigan is not yet authorized.

I. How Would Authorizing Michigan for These Revisions Affect Indian Country (18 U.S.C. 1151) in Michigan?

Michigan is not authorized to carry out its hazardous waste program in Indian Country within the State, as defined in 18 U.S.C. 1151. This includes:

1. All lands within the exterior boundaries of Indian reservations within the State of Michigan;

2. Any land held in trust by the U.S. for an Indian Tribe; and

3. Any other land, whether on or off an Indian reservation that qualifies as Indian country.

Therefore, authorizing Michigan for these revisions would not affect Indian Country in Michigan. EPA would continue to implement and administer the RCRA program in Indian country. It is EPA's long-standing position that the term “Indian lands” used in past Michigan hazardous waste approvals is synonymous with the term “Indian Country.” Washington Dep't of Ecology v. U.S. EPA, 752 F.2d 1465, 1467, n.1 (9th Cir. 1985). See 40 CFR 144.3 and 258.2.

J. What Is Codification and Is EPA Codifying Michigan's Hazardous Waste Program as Authorized in This Rule?

Codification is the process of placing a State's statutes and regulations that comprise a State's authorized hazardous waste program into the Code of Federal Regulations. We do this by referencing the authorized State rules in 40 CFR part 272. Michigan's rules, up to and including those revised October 19, 1991, have previously been codified through incorporation-by-reference effective April 24, 1989 (54 FR 7421, February 21, 1989); as amended effective March 31, 1992 (57 FR 3724, January 31, 1992). We reserve the amendment of 40 CFR part 272, subpart X, for the codification of Michigan's program changes until a later date.

K. Statutory and Executive Order Reviews

This proposed rule only authorizes hazardous waste requirements pursuant to RCRA 3006 and imposes no requirements other than those imposed by State law (see SUPPLEMENTARY INFORMATION, Section A. Why are Revisions to State Programs Necessary?). Therefore this rule complies with applicable executive orders and statutory provisions as follows:

1. Executive Order 18266: Regulatory Planning Review

The Office of Management and Budget has exempted this rule from its review under Executive Order 12866 (58 FR 51735, October 4, 1993).

2. Paperwork Reduction Act

This rule does not impose an information collection burden under the provisions of the Paperwork Reduction Act of 1995 (44 U.S.C. 3501 et seq.).

3. Regulatory Flexibility Act

After considering the economic impacts of today's rule on small entities under the Regulatory Flexibility Act (5 U.S.C. 601 et seq.), I certify that this rule will not have a significant economic impact on a substantial number of small entities.

4. Unfunded Mandates Reform Act

Because this rule approves pre-existing requirements under State law and does not impose any additional enforceable duty beyond that required by State law, it does not contain any unfunded mandate or significantly or uniquely affect small governments, as described in the Unfunded Mandates Reform Act of 1995 (Pub. L. 104-4).

5. Executive Order 13132: Federalism

Executive Order 13132 (64 FR 43255, August 10, 1999) does not apply to this rule because it will not have Federalism implications (i.e., substantial direct effects on the States, on the relationship between the national government and the States, or on the distribution of power and responsibilities among the various levels of government).

6. Executive Order 13175: Consultation and Coordination With Indian Tribal Governments

Executive Order 13175 (65 FR 67249, November 9, 2000) does not apply to this rule because it will not have Tribal implications (i.e., substantial direct effects on one or more Indian Tribes, on the relationship between the Federal government and Indian Tribes, or on the distribution of power and responsibilities between the Federal government and Indian Tribes.)

7. Executive Order 13045: Protection of Children From Environmental Health and Safety Risks

This rule is not subject to Executive Order 13045 (62 FR 19885, April 23, 1997), because it is not economically significant as defined in Executive Order 12866 and because the EPA does not have reason to believe the environmental health or safety risks addressed by this action present a disproportionate risk to children.

8. Executive Order 13211: Actions That Significantly Affect Energy Supply, Distribution, or Use

This rule is not subject to Executive Order 13211 (66 FR 28355, May 22, 2001), because it is not a significant regulatory action as defined in Executive Order 12866.

9. National Technology Transfer Advancement Act

EPA approves State programs as long as they meet criteria required by RCRA, so it would be inconsistent with applicable law for EPA, in its review of a State program, to require the use of any particular voluntary consensus standard in place of another standard that meets requirements of RCRA. Thus, the requirements of section 12(d) of the National Technology Transfer and Advancement Act of 1995 (15 U.S.C. 272 note) do not apply to this rule.

10. Executive Order 12988

As required by section 3 of Executive Order 12988 (61 FR 4729, February 7, 1996), in issuing this rule, EPA has taken the necessary steps to eliminate drafting errors and ambiguity, minimize potential litigation, and provide a clear legal standard for affected conduct.

11. Executive Order 12630: Evaluation of Risk and Avoidance of Unanticipated Takings

EPA has complied with Executive Order 12630 (53 FR 8859, March 18, 1988) by examining the takings implications of the rule in accordance with the Attorney General's Supplemental Guidelines for the Evaluation of Risk and Avoidance of Unanticipated Takings issued under the executive order.

12. Executive Order 12898: Federal Actions To Address Environmental Justice in Minority Populations and Low Income Populations

Because this rule proposes authorization of pre-existing State rules and imposes no additional requirements beyond those imposed by State law and there are no anticipated significant adverse human health or environmental effects, the rule is not subject to Executive Order 12898 (59 FR 7629, February 16, 1994).

List of Subjects in 40 CFR Part 271

Environmental protection, Administrative practice and procedure, Confidential business information, Hazardous materials transportation, Hazardous waste, Indian lands, Intergovernmental relations, Penalties, Reporting and recordkeeping requirements.

Authority: This action is issued under the authority of sections 2002(a), 3006 and 7004(b) of the Solid Waste Disposal Act as amended, 42 U.S.C. 6912(a), 6926, 6974(b).

Dated: September 29, 2009.
Walter W. Kovalick, Jr.,
Acting Regional Administrator, Region 5.

[FR Doc. E9-24464 Filed 10-8-09; 8:45 am]

BILLING CODE 6560-50-P